DEPARTMENT OF ENERGY

Federal Energy Regulatory Commission

[Docket No. RR08-6-000]

North American Electric Reliability Corp; Notice of Filing

September 4, 2008.

On September 2, 2008, the North American Electric Reliability Corporation (NERC) filed corrections to its August 22, 2008 filing, titled “Corrected Version Filed September 2, 2008.” NERC states that none of the corrections are to the actual 2009 Business Plan and Budgets, the eight Regional Entities or the Western Interconnection Regional Advisory Body.

The filing was noticed on August 28, 2008 and the comment date remains the same, September 11, 2008.

Kimberly D. Bose,
Secretary.

[FR Doc. E8-21062 Filed 9-10-08; 8:45 am]

BILLING CODE 6717-01-P